DEPARTMENT OF ENERGY

[Docket No. EA-239]

Application to Export Electric Energy; Aroostook Valley Electric Company

AGENCY: Office of Fossil Energy, DOE.

ACTION: Notice of application.

SUMMARY: Aroostook Valley Electric Company (AVEC) has applied for authority to transmit electric energy from the United States to Canada pursuant to section 202(e) of the Federal Power Act.

DATES: Comments, protests or requests to intervene must be submitted on or before June 15, 2001.

ADDRESSES: Comments, protests or requests to intervene should be addressed as follows: Office of Coal & Power Im/Ex (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-6667.

SUPPLEMENTARY INFORMATION: Exports of electricity from the United States to a foreign country are regulated and require authorization under section 202(e) of the Federal Power Act (FPA) (16 U.S.C. 824a(e)).

On April 27, 2001, the Office of Fossil Energy (FE) of the Department of Energy (DOE) received an application from AVEC to transmit electric energy from the United States to Canada. AVEC, a Maine corporation, owns and operates a 31-MW wood-burning generation facility located in Fort Fairfield, Maine (“the Plant”). This Plant originally was owned by Fairfield Energy Venture (Fairfield).

On October 8, 1985, DOE issued an order (ERA Docket PP-83EA) authorizing Fairfield and Maine Public Service Company (MPSC) jointly to export the electrical output of the Plant to Canada over the MPSC electric system. On December 4, 1985, DOE approved a request by Fairfield to remove its name from that export authorization, leaving MPSC the sole entity authorized to export the Plant's electrical output to Canada. On October 26, 1994, Fairfield sold the Plant to AVEC; however, the Plant remained connected to the MPSC electric system and AVEC continued to rely upon MPSC's export authorization for delivery of the Plant's electrical output to Canada. AVEC now requests its own and separate authority to export the output of the Plant to Canada using the existing MPSC transmission facilities.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the AVEC application to export electric energy to Canada should be clearly marked with Docket EA-239. Additional copies are to be filed directly with Edward F. Tancer, Secretary, Aroostook Valley Electric Company, c/o FPL Energy, LLC, 700 Universe Blvd., Juno Beach, Florida 33408, and Glenn J. Berger, Victor A. Contract, Skadden, Arps, Slate, Meagher & Flom LLP, 1440 New York Avenue, NW., Washington, DC 20005-2111.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory Programs,” then “Electricity Regulation,” and then “Pending Proceedings” from the options menus.

Issued in Washington, DC, on May 23, 2001.
Anthony J. Como,
Deputy Director, Electric Power Regulation, Office of Coal & Power Im/Ex, Office of Coal & Power Systems, Office of Fossil Energy.

[FR Doc. 01-13627 Filed 5-30-01; 8:45 am]

BILLING CODE 6450-01-P